DEPARTMENT OF HEALTH AND HUMAN SERVICES

Administration for Community Living

Administration on Intellectual and Developmental Disabilities, President's Committee for People With Intellectual Disabilities; Meeting

AGENCY: Administration for Community Living, HHS.

ACTION: Notice.

SUMMARY: The President's Committee for People with Intellectual Disabilities (PCPID) will host a webinar/conference call for its members to discuss the recommendation sections of the 2015 Report to the President (RTP). The topic of the PCPID 2015 RTP will be on the roles of technology in the lives of individuals with intellectual and developmental disabilities and their families.

All the PCPID meetings, in any format, are open to the public. This virtual meeting will be conducted in a discussion format.

The public can register to attend this webinar/conference call at https://aoa-events.webex.com/aoa-events/onstage/g.php?MTID=e9c2bd91a90e7ed853b85f3ba0b1b62a2.

DATES:

Webinar: Monday, May 11, 2015 from 1:30 p.m. to 3:00 p.m. (EST).

Registration for Webinar: April 20, 2015 through May 8, 2015.

ADDRESSES: Webinar Web page: https://aoa-events.webex.com/aoa-events/onstage/g.php?MTID=e9c2bd91a90e7ed853b85f3ba0b1b62a2.

For Further Information and Reasonable Accommodations Needs Contact: Dr. MJ Karimi, PCPID Team Lead, One Massachusetts Avenue NW., Room 4206, Washington, DC 20201. Email: MJ.Karimie@acl.hhs.gov; telephone: 202-357-3588; fax: 202-357-3466.

SUPPLEMENTARY INFORMATION: Background: The PCPID members participated in a virtual meeting on April 7, 2015 and streamlined the process of preparing the 2015 RTP. They discussed the following four focus areas that will be included on the Report:

1. Education

2. Community Living

3. Health and Wellness

4. Economic Well-being

The PCPID members will further discuss the development of potential recommendations for inclusion to the PCPID 2015 RTP.

The general purpose of this meeting is to provide the PCPID members with an opportunity to further discuss the recommendation sections of the 2015 RTP on technology for individuals with intellectual and developmental disabilities in each focus area.

Webinar and Registration: The webinar is scheduled for May 11, 2015, 1:30 p.m. to 3:00 p.m. (EST) and may end early if discussions are finished. Registration for the webinar is required and is open from April 20, 2015 to May 8, 2015.

Instructions to Register in the Webinar/Conference Call on Monday, May 11, 2015:

1. WebEx Link: https://aoa-events.webex.com/aoa-events/onstage/g.php?MTID=e9c2bd91a90e7ed853b85f3ba0b1b62a2.

2. Click on the “Register” button on the page.

3. Enter the required information and click “Submit”.

Instructions to Participate in the Webinar/Conference Call on Monday, May 11, 2015:

4. WebEx Link: https://aoa-events.webex.com/aoa-events/onstage/g.php?MTID=e9c2bd91a90e7ed853b85f3ba0b1b62a2.

5. Click on the “join” button on the page.

6. Enter your name and email address.

7. Follow additional instructions as provided by WebEx. If a password is needed for the WebEx link, please enter 123456.

Call-in number: (888) 469-0957; Pass Code: 8955387 (please put your phone on mute during this virtual meeting)

Background information on PCPID: The PCPID acts in an advisory capacity to the President and the Secretary of Health and Human Services, through the Administration on Intellectual and Developmental Disabilities, on a broad range of topics relating to programs, services and support for individuals with intellectual disabilities. The PCPID Executive Order stipulates that the Committee shall: (1) Provide such advice concerning intellectual disabilities as the President or the Secretary of Health and Human Services may request; and (2) provide advice to the President concerning the following for people with intellectual disabilities: (A) Expansion of educational opportunities; (B) promotion of homeownership; (C) assurance of workplace integration; (D) improvement of transportation options; (E) expansion of full access to community living; and (F) increasing access to assistive and universally designed technologies.

Dated: April 17, 2015.
Aaron Bishop,
Commissioner, Administration on Intellectual and Developmental Disabilities.

[FR Doc. 2015-09473 Filed 4-22-15; 8:45 am]

BILLING CODE 4154-01-P